DEPARTMENT OF TRANSPORTATION

Federal Aviation Administration

Public Notice for Waiver for Aeronautical Land-Use Assurance at San Marcos Regional Airport, San Marcos, Texas

AGENCY: Federal Aviation Administration (FAA), DOT.

ACTION: Notice of intent for waiver of aeronautical land-use.

SUMMARY: The Federal Aviation Administration is considering a proposal to change a portion of the airport from aeronautical to nonaeronautical use and to authorize the conversion of the airport property. The proposal consists of one parcel of land containing a total of approximately 16.6 acres.The land comprising this parcel is outside the forecasted need for aviation development and, thus, is no longer needed for indirect or direct aeronautical use. The income from the conversion of this parcel will benefit the aviation community by reinvestment into the airport.

Approval does not constitute a commitment by the FAA to financially assist in the conversion of the subject airport property nor a determination of eligibility for grant-in-aid funding from the FAA. The disposition of proceeds from the conversion of the airport property will be in accordance with FAA's policy and Procedures Concerning the Use of Airport Revenue, published in the Federal Register on February 16, 1999. In accordance with Section 47107(h) of Title 49, United States Code, this notice is required in the Federal Register 30 days before modifying the land-use assurance that requires the property to be used for an aeronautical purpose.

DATES: Comments must be received on or before November 24, 2021.

ADDRESSES: Comments on this application may be emailed to the FAA at the following address: Mr. Jesse Carriger, Manager, 7-ASW-TX-ADO@faa.gov, Federal Aviation Administration, Southwest Region, Airports Division, Texas Airports District Office, ASW-650, 10101 Hillwood Parkway, Fort Worth, Texas 76177.

In addition, one copy of any comments submitted to the FAA must be mailed or delivered to Mr. Chase Stapp, Director of Public Safety, City of San Marcos, at the following address: 630 East Hopkins, San Marcos, Texas 78666.

FOR FURTHER INFORMATION CONTACT: Mrs. Jessica Bryan, Civil Engineer, Federal Aviation Administration, Texas Airports District Office, ASW-650, 10101 Hillwood Parkway, Fort Worth, TX 76177, Telephone: (817) 222-4039, email: Jessica.l.bryan@faa.gov.

Documents reflecting this FAA action may be reviewed at the above locations.

Issued in Fort Worth, Texas on October 13, 2021.
Ignacio Flores,
Manager, Airports Division, FAA, Southwest Region.

[FR Doc. 2021-23170 Filed 10-22-21; 8:45 am]

BILLING CODE 4910-13-P